POSTAL REGULATORY COMMISSION

[Docket No. MT2019-1; Order No. 5870]

Market Test of Experimental Product

AGENCY: Postal Regulatory Commission.

ACTION: Notice.

SUMMARY: The Commission is recognizing a recently filed Postal Service request for extension of the Market Test of Experimental Product—Plus One. This notice informs the public of the filing, invites public comment, and takes other administrative steps.

DATES: Comments are due: May 14, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Notice of Filing

IV. Ordering Paragraphs

I. Introduction

On September 20, 2019, the Commission authorized the Postal Service to proceed with a 2-year market test of an experimental product called Plus One, which is scheduled to expire on September 30, 2021.¹ Plus One is an advertising card that is mailed as an add-on mailpiece with a USPS Marketing Mail Letters marriage mail envelope containing multiple advertising mailpieces.² On April 13, 2021, the Postal Service filed a request pursuant to 39 U.S.C. 3641 and 39 CFR 3045.11 to extend the duration of the Plus One market test.³

¹ Order Authorizing Plus One Market Test, September 20, 2019, at 15 (Order No. 5239).

² United States Postal Service Notice of Market Test of Experimental Product—Plus One, August 13, 2019, at 1.

³ United States Postal Service Request for Extension of Market Test, April 13, 2021 (Request).

II. Background

The Postal Service requests a 12-month extension of the Plus One market test, which if approved would set a new expiration date of September 30, 2022. Request at 2. It asserts that the Plus One market test meets the criteria for granting an extension under 39 U.S.C. 3641(d)(2) and 39 CFR 3045.11. Id. at 1. It states that the extension is “necessary to determine the feasibility or desirability of the [Plus One] experimental product and inform any Postal Service decision to create a permanent product.” Id.

The Postal Service asserts that the extension is necessary for three reasons. First, the market test began right before the first wave of the COVID-19 pandemic in the United States, which disrupted all mail generally and USPS Marketing Mail specifically. Id. at 2. It states that the sharp decline in USPS Marketing Mail affected Plus One volumes and limited the Postal Service's ability to collect data for a full year. Id. It notes that it needs more time to collect meaningful data to compensate for the decline in mail volume that occurred during the pandemic. Id.

Second, the Postal Service asserts that if it decides to add Plus One to the Market Dominant product list as a permanent product, it would need more time to finalize the criteria for the permanent product and to program Information Technology solutions to manage the permanent product. Id. The Postal Service notes that mailers would also need time to adjust their own systems accordingly. Id. Third, the Postal Service states that it “would like to minimize any potential gap between the end of the market test's operational run and the availability of a potential, new, permanent product.” Id. It notes that such a gap could limit small businesses from advertising with the product and impede the ability of current Plus One users to maintain their client base. Id.

In the Request, the Postal Service provides information required by 39 CFR 3045.11(b)(3) and (b)(4). It states the total revenue received by the Postal Service from the Plus One market test was $4.87 million during FY 2020 and $2.05 million during FY 2021, Quarter 1. Id. at 2-3. It estimates that it will collect $7.70 million during FY 2021 if market trends and customer adoption metrics reflected in the FY 2021, Quarter 1 data collection report continue through FY 2021. Id. at 3. It estimates it will receive $10.8 million through FY 2022. Id.

The Postal Service concludes that the Plus One market test meets the criteria for an extension and asks that the Commission grant the extension to allow the Postal Service to continue collecting Plus One market test data and determine the feasibility and desirability of the experimental product. Id.

III. Notice of Filing

The Commission will continue to use Docket No. MT2019-1 to consider matters raised by the Postal Service's Request. The Commission invites comments on whether the Request complies with applicable statutory and regulatory requirements, including 39 U.S.C. 3641, 39 CFR part 3045, and Order No. 5239. Comments are due by May 14, 2021. The public portions of filings in this docket can be accessed via the Commission's website (http://www.prc.gov).

39 U.S.C. 505 requires the Commission to designate an officer of the Commission to represent the interests of the general public in all public proceedings (Public Representative). The Commission previously appointed Gregory Stanton to serve as the Public Representative in this proceeding. He remains appointed to serve as the Public Representative.

IV. Ordering Paragraphs

It is ordered:

1. Pursuant to 39 U.S.C. 505, Gregory Stanton remains appointed to serve as the Public Representative in this proceeding.

2. Comments are due by than May 14, 2021.

3. The Secretary shall arrange for publication of this Order in the Federal Register.

By the Commission.
Erica A. Barker,
Secretary.

[FR Doc. 2021-08031 Filed 4-19-21; 8:45 am]

BILLING CODE 7710-FW-P